DEPARTMENT OF THE INTERIOR

Bureau of Land Management

[PO #4820000251]

Notice of Availability of the Draft Environmental Impact Statement for the Ranegras Plains Energy Center, La Paz County, AZ

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Draft Environmental Impact Statement (EIS) for the Ranegras Plains Energy Center, La Paz County, Arizona.

DATES: To afford the BLM the opportunity to consider comments in the Final EIS, please ensure that the BLM receives your comments within 45 days following the date the Environmental Protection Agency (EPA) published its Notice of Availability (NOA) of the Draft EIS in the Federal Register. The EPA published its NOA on January 10, 2025.

ADDRESSES: The Draft EIS is available for review on the BLM project website at https://eplanning.blm.gov/eplanning-ui/project/2020050/510.

Written comments related to the Ranegras Plains Energy Center may be submitted by any of the following methods:

• Website: https://eplanning.blm.gov/eplanning-ui/project/2020050/510

• Email: blm_az_crd_solar@blm.gov

• Mail: BLM Yuma Field Office, Attention: Ranegras Plains Energy Center, 7341 E 30th Street, Yuma, AZ 85365

Documents pertinent to this proposal may be examined online at https://eplanning.blm.gov/eplanning-ui/project/2020050/510 and at the Yuma Field Office.

FOR FURTHER INFORMATION CONTACT: Derek Eysenbach, Project Manager, at deysenbach@blm.gov, the mailing address above, or by phone at (602) 417-9505. Individuals in the United States who are deaf, deafblind, hard of hearing, or have a speech disability may dial 711 (TTY, TDD, or TeleBraille) to access telecommunications relay services for contacting Mr. Eysenbach. Individuals outside the United States should use the relay services offered within their country to make international calls to the point-of-contact in the United States.

SUPPLEMENTARY INFORMATION: Ranegras Plains Energy Center, LLC (Applicant) (a wholly owned subsidiary of Savion Energy, LLC, which is a wholly owned subsidiary of Shell New Energies US, LLC) is seeking a 40-year right-of-way (ROW) to use 5,029 acres administered by the BLM to construct, operate and maintain, and decommission a utility-scale solar photovoltaic (PV) facility, called the Ranegras Plains Energy Center (the project). The project would be located in southeastern La Paz County, Arizona, south of Interstate 10 midway between Phoenix and the California border, approximately 30 miles east of the community of Quartzsite, southeast of the Interstate 10/Vicksburg Road junction. The project would consist of up to 1.3 million solar PV modules and associated infrastructure, including new and improved roads, powerlines for collection and transmission of electricity, operation and maintenance facilities, and a battery energy storage system. The project would interconnect at the Ten West Link Series Compensation Station via an 11-mile gen-tie line, built adjacent to the Ten West Link 500-kilovolt (kV) transmission line, and have a generation capacity of 700 megawatts or more.

The BLM's purpose for action is to respond to the Applicant's application for a ROW grant to construct, own, operate, maintain, and decommission a utility-scale solar PV energy generating facility on public lands administered by the BLM Colorado River District, Yuma Field Office. The need for action is established by the BLM's responsibilities under FLPMA and the Energy Policy Act of 2005.

The BLM has prepared a Draft EIS with input from cooperating agencies and public comments collected during scoping to address the direct, indirect, and cumulative impacts of the project. The Draft EIS analyzes four alternatives. Under the No Action Alternative, BLM would not approve the ROW and the project would not be constructed on BLM-administered lands. Under the Proposed Action, the BLM would grant a ROW for the project, which would have a net generating capacity of up to 700 megawatts alternating current and span 5,029 acres administered by the BLM. The project would include solar PV modules, DC cabling and combining switchgear, inverters, voltage collection systems, transformers, monitoring and controls systems, operations and maintenance facilities, above-ground electrical connection lines, and potentially a battery energy storage system and project substation. The project would connect into the regional transmission system via the Ten West Link 500kV Series Compensation Station. The Applicant has incorporated numerous design features into the proposed project that would be approved by the Proposed Action to avoid or minimize adverse environmental effects during construction, operation, and decommissioning, including an unfenced wildlife movement corridor to allow wildlife access to habitat in a nearby desert wash. These plans and procedures are provided as appendices to the Proposed Plan of Development and the Draft EIS.

The Access-Retention Alternative would employ the same technology and design as under the Proposed Action but would also incorporate additional public access route corridors based on existing inventoried routes within the solar array area.

The Soils-Focused Alternative would employ the same technology and design as under the Proposed Action but would also include special management actions to minimize impacts on established desert pavements within the project site. A Desert Pavement Management Plan would further minimize the vegetation loss and fugitive dust emissions and accelerate surface reclamation outcomes following construction and decommissioning. All design features present under the Proposed Action would apply to the Soils-Focused Alternative. The BLM has identified the Soils-Focused Alternative as the agency's preferred alternative. Information acquired during the Draft EIS public comment period will inform the BLM's ultimate decision to select any of the four alternatives.

The BLM Authorized Officer will decide whether to issue a ROW grant to the Applicant for the project and, if so, the terms and conditions that would apply. The Colorado River District Manager is the Authorized Officer who will sign the Record of Decision for the project, informed by the information and analyses in the EIS.

The BLM is the lead Federal agency and is responsible for compliance with NEPA (including preparation of this EIS) and consultations required by the National Historic Preservation Act and the Endangered Species Act. The following Tribal Nations and other agencies that may have jurisdiction, special expertise, or interest in the project have agreed to participate in the NEPA process as cooperating agencies: Arizona Department of Transportation, Arizona Game and Fish Department, La Paz County, Fort Yuma-Quechan Tribe, U.S. Army Corps of Engineers, U.S. Department of Defense, EPA, and U.S. Fish and Wildlife Service. The BLM has a signed memorandum of understanding with each cooperating agency to identify its roles and responsibilities and those of the BLM in the process.

A virtual public meeting will be held 2 to 3 weeks after publication of this notice; the meeting date will be announced on the project's ePlanning website at least 15 days prior to the meeting (see ADDRESSES). The public meeting will include a presentation and opportunity to speak with the project team.

The BLM encourages the public to review the Draft EIS and provide comments on the adequacy of the alternatives, analysis of effects, and any new information that would help the BLM disclose potential impacts of the project in the Final EIS.

The BLM will continue to consult with Indian Tribal Nations on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Raymond Suazo,
State Director.

[FR Doc. 2025-00590 Filed 1-13-25; 8:45 am]

BILLING CODE 4331-12-P